DEPARTMENT OF LABOR

Mine Safety and Health Administration

Petitions for Modification

The following parties have filed petitions to modify the application of existing safety standards under section 101(c) of the Federal Mine Safety and Health Act of 1977.

1. Snyder Coal Company

[Docket No. M-2003-011-C]

Snyder Coal Company, RD #2 Box 93, Hegins, Pennsylvania 17938 has filed a petition to modify the application of 30 CFR 75.335 (Construction of seals) to its N. and L. Slope Mine (MSHA I.D. No. 36-02203) located in Northumberland County, Pennsylvania. The petitioner proposes to use wooden materials of moderate size and weight for constructing seals due to the difficulty in accessing previously driven headings and breasts containing inaccessible abandoned workings; to accept a design criteria in the 10 psi range; and to permit the water trap to be installed in the gangway seal and sampling tube in the monkey seal for seals installed in pairs. The petitioner asserts that the proposed alternative method would provide at least the same measure of protection as the existing standard.

2. Snyder Coal Company

[Docket No. M-2003-012-C]

Snyder Coal Company, RD #2 Box 93, Hegins, Pennsylvania 17938 has filed a petition to modify the application of 30 CFR 75.1002-1 now 75.1002 (Installation of electric equipment and conductors; permissibility) to its N. and L. Slope Mine (MSHA I.D. No. 36-02203) located in Northumberland County, Pennsylvania. The petitioner requests a modification of the existing standard to permit the use of non-permissible electric equipment within 150 feet of the pillar line in the working section's only intake entry (gangway) that is regularly traveled and examined. The petitioner states that the non-permissible equipment would include drags and battery locomotives due in part to the method of mining used in pitching anthracite mines and the alternative evaluation of the mine air quality for methane on an hourly basis during operation. The petitioner asserts that the proposed alternative method would provide at least the same measure of protection as the existing standard.

3. Cannelton Industries, Inc.

[Docket No. M-2003-013-C]

Cannelton Industries, Inc., PO Box 150, Cannelton, West Virginia 25036 has filed a petition to modify the application of 30 CFR 75.1002 (Installation of electric equipment and conductors; permissibility) to its Shadrick Mine (MSHA I.D. No. 46-08159) located in Kanawha County, West Virginia. The petitioner proposes to use 2,400-volt electricity to power continuous mining equipment at the Shadrick Mine. The petitioner has listed in this petition specific terms and conditions that would be followed when its proposed alternative method is implemented. The petitioner asserts that the proposed alternative method would provide at least the same measure of protection as the existing standard.

4. Lodestar Energy, Inc.

[Docket No. M-2003-014-C]

Lodestar Energy, Inc., PO Box 448, Clay, Kentucky 42404 has filed a petition to modify the application of 30 CFR 75.1101-1(b) (Deluge-type water spray systems) to its Baker Mine (MSHA I.D. No. 15-14492) located in Webster County, Kentucky. The petitioner requests a modification of the existing standard to allow weekly examinations and testing of the deluge systems to ensure that nozzles are not blocked. In lieu of using blow-off dust covers, the petitioner proposes to have a trained person conduct a weekly visual examination and a functional test on each deluge-type fire suppression system installed at conveyor belt drives by actuating the water system and observing its performance. The petitioner states that any malfunction or clogged nozzle that is detected as a result of the weekly visual examination or functional test, would be corrected immediately. The petitioner will record the results of the examination and test in a book located on the surface and made available to the authorized representative of the Secretary. The book would be retained at the mine for one year. The petitioner further states that a book with the dates of the examinations and tests would also be kept at the location of each conveyor belt drive. The petitioner asserts that the proposed alternative method would provide at least the same measure of protection as the existing standard.

5. Mettiki Coal, LLC

[Docket No. M-2003-015-C]

Mettiki Coal, LLC, 293 Table Rock Road, Oakland, Maryland 21550 has filed a petition to modify the application of 30 CFR 75.1325(c)(1) (Firing procedures) to its Mettiki Mine (MSHA I.D. No. 18-00621) located in Garrett County, Maryland. The petitioner requests a modification of the existing standard to permit blasting in certain locations on the longwall face in the Mettiki Mine without always requiring all miners to leave the face to go to an area that is around at least one corner from the blasting area. The petitioner states that the modification would apply to blasting at longwall faces at locations more than 200 feet inby the headgate. The petitioner has listed in this petition specific terms and conditions that would be followed when its proposed alternative method is implemented. The petitioner asserts that the proposed alternative method would provide at least the same measure of protection as the existing standard.

6. Canyon Fuel Company, LLC

[Docket No. M-2003-016-C]

Canyon Fuel Company, LLC, HC 35 Box 380, Helper, Utah 84526 has filed a petition to modify the application of 30 CFR 75.500(d) (Permissible electric equipment) to its Skyline Mine No. 3 (MSHA I.D. No. 42-01566) located in Carbon County, Utah. The petitioner requests a modification of the existing standard to permit the use of low-voltage or battery powered non-permissible electronic testing and diagnostic equipment in or inby the last open crosscut under controlled conditions. The petitioner proposes to use the following low-voltage or battery powered non-permissible electronic testing and diagnostic equipment: lap top computers, oscilloscopes, vibration analysis machines, cable fault detectors, point temperature probes, infrared temperature devices, insulation testers (meggers), voltage, current and power measurement devices and recorders, pressure and flow measurement devices, signal analyzer device, ultrasonic thickness gauges, electronic component testers, and electronic tachometers, other testing and diagnostic equipment that may be approved by the MSHA District Office. The petitioner states that non-permissible electronic testing and diagnostic equipment shall only be used when equivalent permissible equipment does not exist. The petitioner further states that equipment used in or inby the last open crosscut shall be examined by a qualified person as defined in existing 30 CFR 75.153, prior to being used to ensure the equipment is being maintained in a safe operating condition. The examination results will be recorded in a book and made available to an authorized representative of the Secretary and the miners at the mine. The petitioner has listed specific procedures in this petition, including monitoring, that would be followed when using the non-permissible equipment. The petitioner asserts that the proposed alternative method would provide at least the same measure of protection as the existing standard.

7. L—Coal Co.

[Docket No. M-2003-017-C]

L—Coal Co., RD #2 Box 630, Shamokin, Pennsylvania 17872 has filed a petition to modify the application of 30 CFR 75.1002-1 now 75.1002 (Installation of electric equipment and conductors; permissibility) to its Lenig Tunnel Mine (MSHA I.D. No. 36-08288) located in Northumberland County, Pennsylvania. The petitioner requests a modification of the existing standard to permit the use of non-permissible electric equipment within 150 feet of the pillar line. The petitioner states that the non-permissible equipment would include drags and battery locomotives due in part to the method of mining used in pitching anthracite mines and the alternative evaluation of the mine air quality for methane on an hourly basis during operation. The petitioner asserts that the proposed alternative method would provide at least the same measure of protection as the existing standard.

8. Maple Creek Mining, Inc.

[Docket No. M-2003-019-C]

Maple Creek Mining, Inc., 981 Route 917, Bentleyville, Pennsylvania 15314 has filed a petition to modify the application of 30 CFR 75.1400(e) (Hoisting equipment; general) to its High Quality Mine (MSHA I.D. No. 36-08375) located in Washington County, Pennsylvania. The petitioner proposes to use an electric slope hoist to transport miners in and out the mine. The petitioner states that the High Quality Mine is a new underground mine nearing completion of the slope facilities and hoist installation, and there are no miners employed at the mine. The petitioner further states that the High Quality Mine does not employ any miners who have held the position of hoisting engineer for a period of six months prior to opening the mine, and that an alternate method of obtaining qualifications for the position of a Hoisting Engineer is paramount to the operation of the High Quality Mine. The petitioner has listed specific terms and condition in this petition that would be followed when its proposed alternative method is implemented. The petitioner asserts that the proposed alternative method would provide at least the same measure of protection as the existing standard.

9. Highland Mining Company

[Docket No. M-2003-020-C]

Highland Mining Company, has filed a petition to modify the application of 30 CFR 75.1909(b)(6) (Nonpermissible diesel-powered equipment; design and performance requirements) to its Highland 9 Mine (MSHA I.D. No. 15-02709) located in Union County, Kentucky. The petitioner requests a modification of the existing standard to allow the mine to use the Getman diesel grader underground with rear wheel brakes only at the Highland 9 Mine. The petitioner proposes to: (i) Limit the diesel grader speed to 10 miles per hour maximum; (ii) physically block higher ear ratios on the Getman diesel grader in order to limit the speed to 10 miles per hour maximum; (iii) provide training to the grader operators on how to drop the grader blade in the event the brakes fail and the machine needs to be stopped. The petitioner states that the modification will provide the same protection that is realized from the current standard in that the grader can be stopped using the blade as a brake system. The petitioner asserts that the proposed alternative method would provide at least the same measure of protection as the existing standard.

Request for Comments

Persons interested in these petitions are encouraged to submit comments via e-mail to comments@msha.gov, or on a computer disk along with an original hard copy to the Office of Standards, Regulations, and Variances, Mine Safety and Health Administration, 1100 Wilson Boulevard, Room 2352, Arlington, Virginia 22209. All comments must be postmarked or received in that office on or before April 28, 2003. Copies of these petitions are available for inspection at that address.

Dated at Arlington, Virginia, this 21st day of March 2003.
Marvin W. Nichols, Jr.,
Director, Office of Standards, Regulations, and Variances.

[FR Doc. 03-7395 Filed 3-27-03; 8:45 am]

BILLING CODE 4510-43-P